INTERNATIONAL TRADE COMMISSION

[Investigation No. 731-TA-696 (Fourth Review)]

Pure Magnesium From China

Determination

On the basis of the record ¹ developed in the subject five-year review, the United States International Trade Commission (“Commission”) determines, pursuant to the Tariff Act of 1930 (“the Act”), that revocation of the antidumping duty order on pure magnesium from China would likely to lead continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on October 3, 2016 (81 FR 67697) and determined on January 6, 2017, that it would conduct an expedited review (82 FR 9596, February 7, 2017).

The Commission made this determination pursuant to section 751(c) of the Act (19 U.S.C. 1675(c)). It completed and filed its determination in this review on March 29, 2017. The views of the Commission are contained in USITC Publication 4678 (March 2017), entitled Pure magnesium from China: Investigation No. 731-TA-696 (Fourth Review).

By order of the Commission.
Issued: April 5, 2017.
Lisa R. Barton,
Secretary to the Commission.

[FR Doc. 2017-07119 Filed 4-7-17; 8:45 am]

BILLING CODE 7020-02-P